ENVIRONMENTAL PROTECTION AGENCY

40 CFR Part 52

[OR-03-004b and ID-03-001b; FRL-7487-3]

Approval and Promulgation of State Implementation Plans; Prevention of Significant Deterioration (PSD); Idaho and Oregon

AGENCY: Environmental Protection Agency (EPA).

ACTION: Proposed rule.

SUMMARY: The EPA is proposing amendments to the State implementation plans (SIPS) for Idaho and Oregon concerning the PSD program mandated by part C of title I of the Clean Air Act (hereinafter CAA or Act). The amendments clarify that the newly published provisions of the Federal PSD rule are incorporated into the applicable implementation plans for Indian Country in Idaho and Oregon. The amendments also clarify that the newly published provisions of the Federal PSD rule are incorporated into the applicable implementation plan for other sources in Idaho that were permitted under the Federal PSD program prior to August 22, 1986, the effective date of EPA's approval of Idaho's PSD program as part of the Idaho SIP.

DATES: Written comments must be received on or before May 27, 2003.

ADDRESSES: Written comments should be addressed to: Connie Robinson, EPA, Office of Air Quality (OAQ-107), 1200 Sixth Avenue, Seattle, Washington 98101.

Copies of the information supporting this action are available for inspection during normal business hours at the following location: EPA, Office of Air Quality (OAQ-107), 1200 Sixth Avenue, Seattle, Washington 98101.

FOR FURTHER INFORMATION CONTACT: Connie Robinson, (206) 553-1086.

SUPPLEMENTARY INFORMATION: In the Final Rules section of this Federal Register, the EPA is approving these amendments as a direct final rule without prior proposal because the Agency views this as a noncontroversial action and anticipates no adverse comments. If no adverse comments are received in response to this action, no further activity is contemplated.

If the EPA receives adverse comments, the direct final rule will be withdrawn and all public comments received will be addressed in a subsequent final rule based on this proposed rule. The EPA will not institute a second comment period. Any parties interested in commenting on this action should do so at this time. Please note that if we receive adverse comment on an amendment, paragraph, or section of this rule and if that provision may be severed from the remainder of the rule, we may adopt as final those provisions of the rule that are not the subject of an adverse comment.

For additional information, see the Direct Final rule which is located in the Rules section of this Federal Register.

Dated: April 16, 2003.
L. John Iani,
Regional Administrator, Region 10.

[FR Doc. 03-10067 Filed 4-23-03; 8:45 am]

BILLING CODE 6560-50-P